DEPARTMENT OF COMMERCE

National Telecommunications and Information Administration

BroadbandUSA Webinar Series

AGENCY: National Telecommunications and Information Administration, Department of Commerce.

ACTION: Notice of open meetings—monthly webinars.

SUMMARY: The National Telecommunications and Information Administration (NTIA), as part of its BroadbandUSA program, promotes innovation and economic growth by supporting efforts to expand broadband access and meaningful use across America. BroadbandUSA serves local and state governments, industry and nonprofits that seek to expand broadband connectivity and promote digital inclusion. BroadbandUSA will host a series of webinars on a monthly basis to engage the public and stakeholders with information to accelerate broadband connectivity, improve digital inclusion, strengthen policies and support local priorities. The Practical Broadband Conversations webinar series will provide an ongoing source of information on a range of topics being addressed by BroadbandUSA, including, but not limited to, best practices for improving broadband deployment, digital inclusion, workforce skills, smart communities, and economic development.

DATES: BroadbandUSA will hold the webinars from 2:00 p.m. to 3:00 p.m. Eastern Time on the third Wednesday of every month, beginning October 21, 2020 and continuing through September 15, 2021, with the exception of December 2020 and August 2021.

ADDRESSES: This is a virtual meeting. NTIA will post the registration information on its BroadbandUSA website, https://broadbandusa.ntia.doc.gov under Events.

FOR FURTHER INFORMATION CONTACT: Christopher Holt, National Telecommunications and Information Administration, U.S. Department of Commerce, Room 4872, 1401 Constitution Avenue NW, Washington, DC 20230; telephone: (202) 482-4884; email: BroadbandUSAwebinars@ntia.gov. Please direct media inquiries to NTIA's Office of Public Affairs, (202) 482-7002; email press@ntia.gov.

SUPPLEMENTARY INFORMATION: NTIA's BroadbandUSA program serves as a trusted and neutral strategic advisor, collaborating with federal, state and local government, and industry leaders working to advance smart city and broadband initiatives designed to attract new employers, create quality jobs, improve educational opportunities, increase health outcomes and advance public safety.

BroadbandUSA convenes workshops on a regular basis to bring stakeholders together to discuss ways to improve broadband policies, share best practices, and connect state and local stakeholders to other federal agencies and funding sources for the purpose of expanding broadband infrastructure and adoption throughout America. Experts from NTIA's BroadbandUSA program are available to provide technical assistance and to connect stakeholders with additional resources, such as best practices, guides and program models.

NTIA's BroadbandUSA team convenes events around the country to bring together government, industry and non-profit personnel working to expand broadband connectivity and improve digital inclusion and workforce skills. These webinars are among the events BroadbandUSA uses to share broadband information with the public, broadband stakeholders, tribal, local and state governments and federal programs.

Details on specific webinar topics and webinar registration information will be posted on the BroadbandUSA website, https://broadbandusa.ntia.doc.gov under Events. These webinars are subject to change. Webinar time changes will be posted on the BroadbandUSA website, https://broadbandusa.ntia.doc.gov under Events, at least thirty days in advance of the webinar. Any webinar cancellation will also be posted on the same website. Any date changes will be published in a new Federal Register notice and posted on the website. The presentation, transcript, and recording of each webinar will be posted on the BroadbandUSA website within 7 days following the live webinar.

The public is invited to participate in these webinars. General questions and comments are welcome at any time during webinars via email to BroadbandUSAwebinars@ntia.gov. The webinars are open to the public and press. Pre-registration is recommended. NTIA asks each registrant to provide their first and last name, city, state, zip code, job title, organization and email address for both registration purposes and to receive any updates on the BroadbandUSA program via email at BroadbandUSA@ntia.gov. Information on webinar content and how to register for one or more webinars will be available on NTIA's website at https://broadbandusa.ntia.doc.gov under Events. Individuals requiring accommodations, such as sign language interpretation or other ancillary aids, are asked to notify the NTIA contact listed above at least seven (7) business days before the meeting.

Dated: August 13, 2020.
Kathy Smith,
Chief Counsel, National Telecommunications and Information Administration.

[FR Doc. 2020-18040 Filed 8-17-20; 8:45 am]

BILLING CODE 3510-60-P